DEPARTMENT OF HOUSING AND URBAN DEVELOPMENT

[Docket No. FR-5832-N-14]

Notice of Proposed Information Collection for Public Comment: 2011 Rental Housing Finance Survey

AGENCY: Office of the Assistant Secretary for Policy Development and Research, HUD.

ACTION: Notice.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: January 18, 2011.

ADDRESSES: Interested persons are invited to submit comments on this interim rule to the Regulations Division, Office of General Counsel, Department of Housing and Urban Development, 451 7th Street, SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 Seventh Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

FOR FURTHER INFORMATION CONTACT: Wendy Y. Chi, Office of Economic Affairs, Office of Policy Development and Research, Department of Housing and Urban Development, 451 7th Street, SW., Washington, DC 20410; via telephone (202) 402-6534 (this is not a toll-free number); via e-mail at Wendy.Y.Chi@hud.gov.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: 2011 Rental Housing Finance Survey.

OMB Control Number: 0000-0000.

Description of the need for the information and proposed use: The Rental Housing Finance Survey (RHFS) provides a measure of financial, mortgage, and property characteristics of multifamily rental housing properties in the United States. The RHFS focuses on mortgage financing of multifamily rental housing properties, with emphasis on new originations for purchase, capital improvement, refinancing, and the loan terms and property characteristics associated with these originations.

The RHFS will collect data on property values of residential structures, characteristics of residential structures, rental status and rental value of units within the residential structures, commercial use of space within residential structures, property management status, ownership status, a detailed assessment of mortgage financing, and benefits received from federal, state, local, and non-governmental programs. Many of the questions are the same or similar to those found on the 1995 Property Owners and Managers Survey and the rental housing portion of the 2001 Residential Finance Survey. This survey does not duplicate work done in other existing HUD surveys or studies that are pertinent to mortgage finance of multifamily rental properties.

Policy analysts, program managers, budget analysts, and Congressional staff can use the survey's results to advise executive and legislative branches about the mortgage finance characteristics of the multifamily rental housing stock in the United States and the suitability of public policy initiatives. Academic researchers and private organizations will also be able to utilize the data to facilitate their research and projects.

The Department of Housing and Urban Development (HUD) needs the RHFS data for the following two reasons:

1. This is the only data source that provides a comprehensive picture of mortgage financing of the multifamily rental properties with two or more units.

2. With the data, HUD can gain a better understanding of mortgage origination volumes, loan and property characteristics associated with these originations, and operating cost and revenue characteristics for the multifamily rental housing stock in the United States. This information will help HUD to evaluate, monitor, and design national housing policies, priorities, and programs affecting the entire spectrum of the multifamily rental stock.

Agency Form Numbers: 000000000000.

Members of affected public: Owners and managers of rental properties.

Estimation of the total number of hours needed to prepare the information collection including number of respondents, frequency of response, and hours of response:

Number of Respondents: 3,600.

Estimate of Responses per Respondent: 1 every 2 years.

Time (minutes) per respondent: 30.

Total hours to respond: 1800.

Respondent's Obligation: Voluntary.

Status of the proposed information collection: Pending OMB approval.

Authority: Title 13 U.S.C. Section 9(a), and Title 12, U.S.C., Section 1701z-1 et seq.

Dated: November 12, 2010.
Raphael W. Bostic,
Assistant Secretary for Policy Development and Research.

[FR Doc. 2010-29276 Filed 11-18-10; 8:45 am]

BILLING CODE 4210-67-P